DEPARTMENT OF AGRICULTURE

Cooperative State Research, Education, and Extension Service Notice of Intent To Establish an Information Collection

AGENCY: Cooperative State Research, Education, and Extension Service, USDA.

ACTION: Notice and request for comments.

SUMMARY: In accordance with the Office of Management and Budget (OMB) regulations (5 CFR 1320) that implement the Paperwork Reduction Act of 1995 (44 U.S.C. Chapter 35), this notice announces the Cooperative State Research, Education, and Extension Service's (CSREES) intention to request approval to establish an information collection for the Expanded Food and Nutrition Education Program (EFNEP).

DATES: Written comments on this notice must be received by December 3, 2004 to be assured of consideration. Comments received after that date will be considered to the extent practicable.

ADDRESSES: Written comments concerning this notice may be mailed to Jason Hitchcock, E-Government Program Leader, Information Systems and Technology Management, CSREES, USDA, STOP 2216, 1400 Independence Avenue, SW., Washington, DC 20250-2216 or sent electronically to: jhitchcock@csrees.usda.gov.

FOR FURTHER INFORMATION CONTACT: To request a copy of the information collection, contact Jason Hitchcock at (202) 720-4343; facsimile at (202) 720-0857; or electronically at: jhitchcock@csrees.usda.gov.

SUPPLEMENTARY INFORMATION: Title: Expanded Food and Nutrition Education Program (EFNEP).

OMB Number: 0524-NEW.

Expiration Date of Current Approval: Not applicable.

Type of Request: Intent to seek approval to establish an information collection for three years.

Abstract: The USDA's CSREES EFNEP is a unique program that began in 1969, designed to reach limited resource audiences, especially youth and families with young children. EFNEP operates in 50 States of the United States, American Samoa, Guam, Micronesia, the Commonwealth of the Northern Marianas, the Commonwealth of Puerto Rico, and the Virgin Islands of the United States. Extension professionals train and supervise paraprofessionals and volunteers who teach food and nutrition information and skills to limited resource families and youth.

The objectives of EFNEP are to assist limited resource families and youth in acquiring the knowledge, skills, attitudes, and changed behaviors necessary for making diet decisions that are nutritionally sound, and to contribute to their personal development and the improvement of the total family diet and nutritional well-being.

The evaluation processes of EFNEP are consistent with the requirements of Congressional legislation and OMB. The Government Performance and Results Act of 1993 (GPRA) (Pub. L. 103-62), the Federal Activities Inventory Reform Act of 1998 (FAIR Act) (Pub. L. 105-270), and the Agricultural, Research, Extension and Education Reform Act of 1998 (AREERA)(Pub. L. 105-185), together with OMB requirements, support the reporting requirements requested in this information collection. One of the five Presidential Management Agenda initiatives, Budget and Performance Integration, builds on GPRA and earlier efforts to identify program goals and performance measures, and link them to the budget process. The FAIR Act requires the development and implementation of a system to monitor and evaluate agricultural research and extension activities in order to measure the impact and effectiveness of research, extension, and education programs. AREERA requires a performance evaluation to be conducted to determine whether Federally funded agricultural research, extension, and education programs result in public goods that have national or multi-state significance.

Since 1969, states have annually reported demographic and dietary behavior change of their EFNEP audience to the Federal Cooperative Extension Service (CES) EFNEP National Program Leader, at CSREES, or its preceding agencies, in USDA. Through 1992, the reports were submitted on OMB approved forms, Forms ES-255 and ES-256. The data gathered using these forms was of limited usefulness at the State and local level, and data quality was questionable.

The Evaluation/Reporting System (E/RS) is a database that was developed to capture the impacts of EFNEP. The system provides a variety of reports that are useful for management purposes, provides diagnostic assessments of participant needs, and exports summary data for State and National assessment of the program's impact. The specifications for this system were developed by a committee made up of representatives from across the United States.

E/RS stores information in the form of records about the program participants, their family structure and their dietary practices. The system is structured to collect data about adult participants, youth and youth group members, and staff assignments, and hours worked. The E/RS consists of separate software sub-systems for the county, state, and Federal levels. Each county-level system accumulates data about individuals. This data is exported electronically to the state-level system. At the state level, university staff imports the data and create state reports that are exported electronically to the Federal-level system. By the time the data gets to the Federal level, it is state compiled data excluding any personal identifying information of participants. National reports are then created at the Federal level.

Estimate of Burden: Each year, the county offices aggregate local electronic data into the state report, and transmit it electronically to CSREES. This requirement constitutes the Federal burden CSREES imposes on the States and is the only burden measured and accounted for in this estimate. CSREES estimates that it takes one State or Territory 1,234.5 hours to aggregate the local level information and transmit the summary information to CSREES. There are a total of 56 responses annually, thus constituting a total annual estimated burden of 69,132 hours for this information collection.

Comments: Comments are invited on: (a) Whether the proposed collection of information is necessary for the automated, electronic, mechanical, or other technological collection techniques or other forms of information technology.

Done in Washington, DC, this 1st day of September, 2004.
Joseph J. Jen,
Under Secretary, Research, Education, and Economics.

[FR Doc. 04-21752 Filed 9-28-04; 8:45 am]

BILLING CODE 3410-22-P